DEFENSE NUCLEAR FACILITIES SAFETY BOARD

Sunshine Act Meeting

Pursuant to the provision of the “Government in the Sunshine Act” (5 U.S.C. § 552b), notice is hereby given of the Defense Nuclear Facilities Safety Board's (Board) meeting described below.

TIME AND DATE OF MEETING: 6:30 p.m., November 30, 2000.

PLACE: The Conference Center, 215 The Alley, Aiken, South Carolina 29801.

STATUS: Open. While the Sunshine Act does not require that the scheduled discussion be conducted in a meeting, the Board has determined that an open meeting in this specific case furthers the public interest underlying both the Sunshine Act and the Board's enabling legislation.

MATTERS TO BE CONSIDERED: The Board is visiting the Savannah River Site (SRS) as part of its oversight of the Department of Energy's (DOE) management and operation of defense nuclear facilities. The site visit will include discussions of tritium activities at Defense Programs facilities as well as nuclear material stabilization activities at Environmental Management facilities.

The Board wishes also to avail itself of the opportunity of this visit to meet with members of the public and other interested persons. This public meeting is intended to be informal and to provide an opportunity for members of the public, DOE employees, and DOE's contractor employees to provide comments and information directly to the Board regarding any matter affecting health and safety at SRS. Specific matters of particular interest to the Board during this visit include:

1. Utilization of F- and H-Canyon Facilities.

2. Stabilization, Packaging and Storage of Plutonium-bearing Materials.

3. Stabilization of Highly Enriched Uranium Solutions.

4. High Level Waste Management; Including Selection of an Alternative Salt Processing Technology.

CONTACT PERSON FOR MORE INFORMATION: Richard A. Azzaro, General Counsel, Defense Nuclear Facilities Safety Board, 625 Indiana Avenue, NW, Suite 700, Washington, DC 20004, (800) 788-4016. This is a toll-free number.

Dated: November 9, 2000.
John T. Conway,
Chairman.

[FR Doc. 00-29228 Filed 11-9-00; 12:47 pm]

BILLING CODE 3670-01-U